DEPARTMENT OF THE INTERIOR

National Park Service

[NPS-WASO-NAGPRA-NPS0036226; PPWOCRADN0-PCU00RP14.R50000]

Notice of Intent To Repatriate Cultural Items: Lyon County Historical Society, Marshall, MN

AGENCY: National Park Service, Interior.

ACTION: Notice.

SUMMARY: In accordance with the Native American Graves Protection and Repatriation Act (NAGPRA), the Lyon County Historical Society intends to repatriate a certain cultural item that meets the definition of an unassociated funerary object and that has a cultural affiliation with the Indian Tribes or Native Hawaiian organizations in this notice. The cultural item was removed from Lyon County, MN.

DATES: Repatriation of the cultural item in this notice may occur on or after August 21, 2023.

ADDRESSES: Jennifer Andries, Lyon County Historical Society, 301 West Lyon Street, Marshall, MN 56258, telephone (507) 537-6580, email director@lyoncomuseum.org.

SUPPLEMENTARY INFORMATION: This notice is published as part of the National Park Service's administrative responsibilities under NAGPRA. The determinations in this notice are the sole responsibility of the Lyon County Historical Society. The National Park Service is not responsible for the determinations in this notice. Additional information on the determinations in this notice, including the results of consultation, can be found in the summary or related records held by the Lyon County Historical Society.

Description

The one cultural item was removed from Lyon County, MN. Known as the Camden Vase, this unassociated funerary object is a small, shell-tempered pottery vessel. It was removed by George Chamberlain from a burial mound in 1934, near what is today, Camden State Park, in southwestern Minnesota. In 1972, Chamberlain's son, Horace Chamberlain, donated the object to the Lyon County Historical Society.

The mound from which the unassociated funerary object was removed belonged to a group of mounds, all of which were completely obliterated from the landscape during road construction in the mid-1960s. Archeologists associate these mounds with the Oneota cultural tradition (circa A.D. 1000-1500), The Oneota, an agricultural society linked to the Mississippian culture at Cahokia, in southern Illinois, is thought to be ancestral to the present-day Otoe and Iowa.

Cultural Affiliation

The cultural item in this notice is connected to one or more identifiable earlier groups, tribes, peoples, or cultures. There is a relationship of shared group identity between the identifiable earlier groups, tribes, peoples, or cultures and one or more Indian Tribes or Native Hawaiian organizations. The following type of information was used to reasonably trace the relationship: archeological.

Determinations

Pursuant to NAGPRA and its implementing regulations, and after consultation with the appropriate Indian Tribes and Native Hawaiian organizations, the Lyon County Historical Society has determined that:

• The one cultural item described above are reasonably believed to have been placed with or near individual human remains at the time of death or later as part of the death rite or ceremony and are believed, by a preponderance of the evidence, to have been removed from a specific burial site of a Native American individual.

• There is a relationship of shared group identity that can be reasonably traced between the cultural items and the Iowa Tribe of Kansas and Nebraska.

Requests for Repatriation

Additional, written requests for repatriation of the cultural item in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after August 21, 2023. If competing requests for repatriation are received, the Lyon County Historical Society must determine the most appropriate requestor prior to repatriation. Requests for joint repatriation of the cultural item are considered a single request and not competing requests. The Lyon County Historical Society is responsible for sending a copy of this notice to the Indian Tribe identified in this notice.

Authority: Native American Graves Protection and Repatriation Act, 25 U.S.C. 3003, and the implementing regulations, 43 CFR 10.8, 10.10, and 10.14.

Dated: July 14, 2023.
Melanie O'Brien,
Manager, National NAGPRA Program.

[FR Doc. 2023-15524 Filed 7-20-23; 8:45 am]

BILLING CODE 4312-52-P